NATIONAL FOUNDATION ON THE ARTS AND THE HUMANITIES

Meeting of the National Museum Services Board and the National Commission on Libraries and Information Science; Sunshine Act Meeting

AGENCY: Institute of Museum and Library Sciences.

ACTION: Notice of meeting.

SUMMARY: This notice sets forth the agenda of a forthcoming meeting of the National Museum Services Board and the National Commission on Libraries and Information Science. This notice also describes the function of the boards. Notice of this meeting is required under the Government through the Sunshine Act (Public Law 94-409) and regulations of the Institute of Museum and Library Services, 45 CFR 1180.84.

TIME/DATE: 9:00 am-12:00 pm on Friday, September 15, 2000.

STATUS: Open.

ADDRESS: The Madison Hotel, 15th and M Streets, NW, Mt. Vernon Room—Salon C, Washington, DC 20005, (202) 862-1600.

FOR FURTHER INFORMATION CONTACT: Elizabeth Lyons, Special Assistant to the Director, Institute of Museum and Library Services, 1100 Pennsylvania Avenue, NW, Room 510, Washington, DC 20506, (202) 606-4649.

SUPPLEMENTARY INFORMATION: The National Museum Services Board is established under the Museum Services Act, Title II of the Arts, Humanities, and Cultural Affairs Act of 1976, Public Law 94-462. The Board has responsibility for the general policies with respect to the powers, duties, and authorities vested in the Institute under the Museum Services Act.

The United States National Commission on Libraries and Information Science (NCLIS) is established under Public Law 91-345 as amended, The National Commission on Libraries and Information Science Act. In accordance with section 5(b) of the Act, the commission has the responsibility for advising the Director of the Institute of Museum and Library Services on general policies relating to library services.

The meeting on Friday, September 15, 2000 will be open to the public. If you need special accommodations due to a disability, please contact: Institute of Museum and Library Services, 1100 Pennsylvania Avenue, NW, Washington, DC 20506—(202) 606-8536—TDD (202) 606-8636 at least seven (7) days prior to the meeting date.

Agenda

4th Annual Meeting of the National Museum Services Board and The National Commission on Libraries and Information Science at The Madison Hotel, 15th and M Streets, NW, Mt. Vernon Room—Room C, Washington, DC 20005 on Friday, September 15, 2000

9:00 am-12:00 pm

I. The Chairs' Welcome and Minutes of the 3rd Annual Meeting

II. Director's Welcome and Opening Remarks

III. Outcomes-based Evaluation: Methodology/Training Schedule

IV. National Leadership Grants

a. Analysis: National Leadership Grants 2000

b. Panel and Field Review Process

c. Review of Guidelines

V. Emerging Issues in Digitization

a. Presenters

b. Q and A

VI. National Award for Museum Service/National Award for Library Service

VII. Reauthorization update

Dated: August 15, 2000.
Linda Bell,
Director of Policy, Planning and Budget, National Foundation on the Arts and Humanities, Institute of Museum and Library Services.

[FR Doc. 00-21824 Filed 8-22-00; 3:38 pm]

BILLING CODE 7036-01-M